DEPARTMENT OF HOMELAND SECURITY

Coast Guard

[Docket No. USCG-2007-0030]

Implementation of Revised Passenger Weight Standards for Existing Passenger Vessels

AGENCY: Coast Guard, DHS.

ACTION: Notice of Availability.

SUMMARY: The Coast Guard announces the publication of Officer of Vessel Activities (CG-543) Policy Letter 11-03: “Implementation of Revised Passenger Weight Standards for Existing Passenger Vessels.” This policy letter provides guidance on how the Coast Guard will amend Certificates of Inspection prior to a change in the assumed average weight per person standard that will become effective in December 2011.

DATES: The policy letter announced in this notice is effective on May 19, 2011.

ADDRESSES: The policy letter and other documents mentioned in this preamble as being available in the docket, are part of docket USCG-2007-0030 and are available for inspection or copying at the Docket Management Facility, U.S. Department of Transportation, West Building Ground Floor, Room W12-140, 1200 New Jersey Avenue, SE., Washington, DC 20590-0001, between 9 a.m. and 5 p.m., Monday through Friday, except Federal holidays. You may also find this docket on the Internet at http://www.regulations.gov. In addition:

FOR FURTHER INFORMATION CONTACT: For information concerning this notice, contact Lieutenant Commander David Webb, Passenger Vessel Program Manager, Office of Vessel Activities, Domestic Vessel Compliance Division (CG-543), telephone 202-372-1224 or via e-mail at CG5431@uscg.mil.

SUPPLEMENTARY INFORMATION:

Background and Purpose

The Coast Guard determines the maximum number of persons permitted on a vessel by several factors, including the total weight of people carried based on an Assumed Average Weight per Person (AAWPP). The Coast Guard published a Final Rule (75 FR 78064, December 14, 2010), which updated the AAWPP for new and existing inspected passenger vessels and is available in the docket. The relevant portions of the final rule will become effective on December 1, 2011. Because of the large number of passenger vessels affected by the Final Rule, it is not practical for the Coast Guard to amend all stability letters and Certificates of Inspection (COIs) prior to the effective date of the new AAWPP, nor is it reasonable to defer vessel operator compliance until all vessel documents are updated.

For this reason, the policy letter referred to in this notice provides supplemental guidance to the implementation discussion contained in the preamble to the Final Rule. This policy letter provides guidance for existing passenger vessels and contains acceptable methods for passenger vessel owners and operators to demonstrate compliance with the new AAWPP. It also outlines procedures to be followed by both passenger vessel owners and operators and the Coast Guard in order to verify compliance and amend vessel documents as may be needed. Finally, the policy letter provides guidance on an alternative to the AAWPP, described in the final rule, that a vessel may use if the owner/operator can demonstrate that the average weight of passengers and crew routinely carried on that vessel differs significantly from the published AAWPP.

This notice is issued under authority of 5 U.S.C. 552(a) and 46 CFR 176.

Dated: May 10, 2011.
Kevin S. Cook,
Rear Admiral, U.S. Coast Guard, Director of Prevention Policy.

[FR Doc. 2011-12282 Filed 5-18-11; 8:45 am]

BILLING CODE 9110-04-P